POSTAL SERVICE

Board of Governors; Sunshine Act Meetings

TIME AND DATE: Thursday, August 6, 2020, at 11:00 a.m.; and Friday, August 7, 2020, at 9:00 a.m.

PLACE: Washington, DC, at U.S. Postal Service Headquarters, 475 L'Enfant Plaza SW, in the Benjamin Franklin Room.

STATUS: Thursday, August 6, 2020, at 11:00 a.m.—Closed; Friday, August 7, 2020, at 9:00 a.m.—Open.

MATTERS TO BE CONSIDERED:

Thursday, August 6, 2020, at 11:00 a.m. (Closed)

1. Strategic Issues.

2. Financial and Operational Matters.

3. Compensation and Personnel Matters.

4. Administrative Items.

Friday, August 7, 2020, at 9:00 a.m. (Open)

1. Remarks of the Chairman of the Board of Governors.

2. Remarks of the Postmaster General and CEO.

3. Approval of Minutes of Previous Meetings.

4. Committee Reports.

5. Quarterly Financial Report.

6. Quarterly Service Performance Report.

7. Approval of Tentative Agenda for November Meetings.

CONTACT PERSON FOR MORE INFORMATION: Katherine Sigler, acting Secretary of the Board, U.S. Postal Service, 475 L'Enfant Plaza SW, Washington, DC 20260-1000. Telephone: (202) 268-4800.

Michael J. Elston,
Secretary.

[FR Doc. 2020-16502 Filed 7-27-20; 11:15 am]

BILLING CODE 7710-12-P